DEPARTMENT OF TRANSPORTATION

Federal Aviation Administration

First Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held November 30-December 2, 2004 starting at 9 a.m.

ADDRESSES: The meeting will be held at RTCA, 1828 L Street, NW., Suite 805, Washington, DC, 20036-5133.

FOR FURTHER INFORMATION CONTACT: (1) RTCA Secretariat, 1828 L Street, NW., Suite 803, Washington, DC, 20036; telephone (202) 833-9339; fax (202) 833-9434; Web site http://www.rtca.org.

SUPPLEMENTARY INFORMATION: Pursuant to section 10(a) (2) of the Federal Advisory Committee Act (Pub. L. 92-463, 5 U.S.C., appendix 2), notice is hereby given for a Special Committee 135 meeting. The agenda will include:

• November 30-December 2:

• Opening Plenary Session (Welcome and Introductory Remarks, Review/Approval of Meeting Agenda)

• Federal Committee Advisory Act (FACA)/RTCA Procedures

• Review of Committee Terms of Reference

• Key Note Commentary

• Special Committee Structure, Organization and Work Plan

• Presentations—Unmanned Aircraft Systems

• Closing Plenary Session (New/Unfinished Business, Date and Place of Next Meeting, Review Actions Items/Work Program)

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on October 26, 2004.
Robert Zoldos,
FAA System Engineer, RTCA Advisory Committee.

[FR Doc. 04-24849 Filed 11-5-04; 8:45 am]

BILLING CODE 4910-13-M